DEPARTMENT OF TRANSPORTATION

National Highway Traffic Safety Administration

[Docket No. NHTSA-04-18765]

Frontal New Car Assessment Program

AGENCY: National Highway Traffic Safety Administration (NHTSA), Department of Transportation (DOT).

ACTION: Response to comments, notice of decision.

SUMMARY: On October 14, 2004, NHTSA published a notice requesting comments on possible alternatives to revise the agency's test procedures for frontal impact New Car Assessment Program (NCAP) testing. This notice summarizes the comments received and provides the agency's decision on how we will proceed. The agency has decided to maintain the full-frontal barrier test procedure, the test speed of 35 mph (56 km/h), the current test dummies, and the current rating system until the further research and analysis are completed.

Privacy Act: Anyone is able to search the electronic form of all submissions received into any of our dockets by the name of the individual submitting the petition (or signing the petition, if submitted on behalf of an association, business, labor union, etc.). You may review DOT's complete Privacy Act Statement in the Federal Register published on April 11, 2000 (Volume 65, Number 70; Pages 19477-78) or you may visit http://dms.dot.gov.

FOR FURTHER INFORMATION CONTACT: For technical issues concerning the upgrade to frontal NCAP, contact Mr. Brian Park of the New Car Assessment Program. Telephone: (202) 366-6012. Facsimile: (202) 493-2739. Electronic Mail: Brian.Park@nhtsa.dot.gov. For legal issues, contact Stephen Wood of the Office of Chief Counsel. Telephone: (202) 366-2992. Facsimile: (202) 366-3820. Electronic Mail: Stephen.Wood@nhtsa.dot.gov. You may send mail to these officials at: National Highway Traffic Safety Administration, 400 Seventh St., SW., Washington, DC, 20590.

SUPPLEMENTARY INFORMATION:

I. Introduction

II. Summary of Request for Comments

III. Summary of Comments

IV. Discussion and Agency Decision

V. Conclusion

Appendix A-NASS Analysis of Full-Frontal Crashes

I. Introduction

The National Highway Traffic Safety Administration (NHTSA) is responsible for reducing deaths, injuries, and economic losses resulting from motor vehicle crashes. One way in which NHTSA accomplishes this mission is by providing consumer information to the public. Currently, NHTSA conducts tests and provides frontal, side, and rollover stability vehicle safety ratings to consumers through the New Car Assessment Program (NCAP). With this information, consumers can make better-educated decisions about their purchases, thereby providing market forces that encourage automakers to further improve the safety of their vehicles.

Since 1978, the test procedure for NCAP's frontal crash test program has been similar to the frontal barrier test procedure used in Federal Motor Vehicle Safety Standard (FMVSS) No. 208, “Occupant Crash Protection,” except that the NCAP test has been conducted at a speed of 5 mph (8 km/h) above that specified in FMVSS No. 208. Recent amendments to FMVSS No. 208 will require vehicles to be tested at an increased speed of 35 mph (56 km/h) for the belted Hybrid III 50th percentile male dummy, the same test procedure as the current frontal NCAP.¹ Consequently, on October 14, 2004, NHTSA published a notice requesting comments on what revisions should occur, if any, to the test procedures and or rating system used in frontal NCAP.²

¹ This requirement is phased in during a period beginning on September 1, 2007, and ending on September 1, 2011.

² 70FR 23078, Docket No. NHTSA-2004-18765.

Seventeen comments were received in response to the notice. While most of the commenters did not object to keeping the current frontal NCAP, they did offer mixed responses on the different options for modifying the current test procedure. Additionally, most commenters supported the idea of changing the current rating system in some way, and generally recommended that any changes made to the program should reflect real world crash data. Though they did not submit comments directly to the notice, a Government Accountability Office (GAO) study suggested that the agency should include different injury measurements and additional occupant sizes in both the frontal and side crash test-rating systems.³ This notice summarizes comments to the 2004 notice, and provides the agency's decision on how we will proceed.

³ GAO-05-370, Report to Congressional Committees, Vehicle Safety, “Opportunities Exist to Enhance NHTSA's New Car Assessment Program,” April 2005.

II. Summary of Request for Comments

In our notice requesting comments on possible alternatives to current NCAP test procedures and/or rating system, the alternatives offered were as follows: (1) Maintaining the current program, (2) modifying the test procedure, and (3) changing the rating system.

The first option offered for consideration was to maintain the current program. Under this option, NCAP test results could be used for testing compliance with the FMVSS No. 208 and vice-versa, thereby maintaining or perhaps increasing the amount of consumer information provided by the agency.

The second option offered for consideration was to modify the current test procedure. Three modifications were described. The first was to increase the current test speed; that is, to test the vehicles as outlined in FMVSS No. 208, but at a faster speed. As the test speed of the FMVSS No. 208 test will be raised from 30 mph (48 km/h) to 35 mph (56 km/h), the NCAP test speed could also be increased by 5 mph (8km/h) from 35 mph (56 km/h) to 40 mph (64 km/h). This test could also serve as a compliance indicant. The second variation was to add a variety of dummies. The Hybrid III 5th percentile female dummy could be placed in the driver position with the Hybrid III 50th percentile male dummy in the passenger position, or vice-versa. Additionally, rear seat occupants could include one or more of the Hybrid III family of child dummies with their appropriate child restraints. The third modification was to add another test procedure, such as an offset frontal test, either as a replacement or in addition to the full-frontal barrier test.

The third option offered for consideration was to make changes to the rating system. Two changes were offered for consideration under this approach. One possible change was to modify the star rating bands so that the combined chance of a serious injury to the head or chest would be 5 percent or lower (as opposed to the current 10 percent limit) for a vehicle to receive five stars. The injury probability ranges required for the other star ratings would also be adjusted accordingly. A second modification was to add new injury metrics to the star rating like neck (Nij), chest deflection, femur loads and tibia index. These injury metrics are currently measured in the NCAP test, but are not used to compute the star rating.

III. Summary of Comments

This section provides a brief summarization of the seventeen comments submitted to the docket by vehicle manufacturers, safety advocates, and the general public.⁴

⁴ These submissions are available at http://dms.dot.gov in docket number 2004-18765.

Maintaining the Current Program

General Motors Corporation (GM) and Daimler Chrysler Corporation (DaimlerChrysler) did not object to maintaining the current frontal NCAP test for the immediate future. GM suggested maintaining the current program until the Advanced Air bag requirements of FMVSS No. 208 have been phased in completely. DaimlerChrysler also agreed with maintaining the current program, citing the need for an analysis of consumer perception of NCAP ratings and how the ratings are used in their purchasing and leasing decisions. Additionally, DaimlerChrysler suggested that changes to the program could lead to consumer confusion regarding comparisons between vehicles tested with the current procedure to those tested under a revised rating system.

The Advocates for Highway and Auto Safety (Advocates), the Insurance Institute for Highway Safety (IIHS), and Public Citizen expressed concerns with maintaining the current frontal program. The Advocates believe that the changes to FMVSS No. 208 will make the NCAP crash tests irrelevant. IIHS stated that, “* * * the remaining performance differences among new vehicles are unlikely to translate into important differences in occupant protection in real-world crashes.” Public Citizen reiterated the fact that most new vehicles receive four-or five-star ratings, stated that “the frontal NCAP program should be made more comprehensive,” and suggested achieving this by including structural integrity and more body regions to the rating.

Modifying the Test Procedure

Increase Test Speed

Both Advocates and Public Citizen favored an increase of the frontal test speed from 35 mph (56 km/h) to 40 mph (64 km/h). Public Citizen suggested that deadly frontal crashes occur disproportionately at speeds above the current NCAP speed, based on 2003 data on fatal head-on crashes from NHTSA's Fatality Analysis Reporting System (FARS). The Advocates acknowledged that the full-barrier crash test is primarily a test of restraint system effectiveness. They suggested a higher test speed could lead to further improvements for both air bags and seat belts, but that it might increase vehicle stiffness and air bag aggressiveness. They further suggested that this could be countered by implementing a new rating system that modified the score based on a compatibility “modifier.”

GM, Nissan North America, Inc. (Nissan), Honda Motor Company Ltd. and American Honda Motor Company (Honda), Ford Motor Company (Ford), the Association of International Automobile Manufacturers, Inc. (AIAM), and IIHS were opposed to an increase of test speed. They all suggested that the higher test speed could lead to increased vehicle stiffness and more aggressive air bags, which in turn would diminish any increased benefits. Nissan and IIHS also specifically questioned the real-world benefits of a higher test speed.

Testing With Different Dummies

With regard to adopting the Hybrid III 5th percentile adult female test dummy into the frontal test procedure, GM, Public Citizen, and Bidez & Associates supported this option. However, they disagreed on how the dummy should be adopted. GM recommended replacing the Hybrid III 50th percentile dummy with the Hybrid III 5th percentile dummy and maintaining one single test. Public Citizen, on the other hand, supported running one test with the Hybrid III 50th and 5th dummies in the driver and passenger seats followed by a second test with the dummies in switched positions. Bidez & Associates felt that the 5th percentile dummy should be added to an offset frontal test rather than the current full-frontal barrier test.

Nissan, Ford, DaimlerChrysler, Magna Steyr, AIAM, and IIHS all objected to either replacing the Hybrid III 50th percentile dummy with the Hybrid III 5th percentile dummy or including the 5th percentile into frontal NCAP testing. Nissan suggested that the 50th percentile occupant represents the largest percentage of injured occupants and thus there is no reason to include the 5th percentile. Ford cited that the addition of the 5th percentile into NCAP testing could have adverse effects (though no specifics were given) and that the agency should do additional research. DaimlerChrysler referenced the agency's Notice of Proposed Rulemaking for adding the Hybrid III 5th percentile dummy to FMVSS No. 208 and stated that potential benefits for including this dummy were “statistically minor, an overestimate, and can't be absolutely quantified.” AIAM likewise suggested that the agency consider real world conditions before adding the Hybrid III 5th percentile dummy to the NCAP. IIHS suggested that assessing different sizes of dummies in FMVSS No. 208 is fine, but there is no evidence that it will provide any benefit in NCAP testing.

NHTSA had also offered for consideration testing with child dummies in the rear seats. GM, Nissan, and BMW objected to testing with child dummies that utilize child restraint systems (CRS). These commenters cited test burden due to the large number of different child restraint models available, and consumer confusion as reasons not to pursue this option. The commenters suggested that consumers could become confused when trying to interpret safety ratings using only one child restraint model out of the large number that are currently available. Additionally, Nissan stated that it was unclear whether the dummy's response would be attributable to the design of the CRS or to the vehicle itself. GM, however, did think adding child dummies to the rear seat has merit, but indicated that additional research was required to fully comprehend how to effectively evaluate vehicles for rear occupant protection.

Ford, Evenflo, Advocates, Public Citizen, and Bidez & Associates all supported the inclusion of restrained child dummies in frontal NCAP. Advocates and Public Citizen did not offer further comment. Ford suggested that if the agency decides to test with child dummies, only the three-year-old Hybrid III dummy in a uniform (or standard) production CRS with Lower Anchors and Top Tethers for Children (LATCH) should be used since that test mode has been most thoroughly evaluated by the agency. Evenflo also favored this approach, but they recommended using a CRS surrogate in lieu of a production CRS in order to ensure year-to-year consistency. Bidez & Associates added that they would like to see three child dummies in the rear seat of every vehicle: A Hybrid-III three-year-old, six-year-old, and ten-year-old. The three-year old would be restrained in a CRS recommended by the vehicle manufacturer and the six- and ten-year-old dummies would be restrained in the two outboard rear-seating positions by vehicle belts.

Offset Frontal Test

Subaru, Nissan, BMW, Porsche, IIHS, Magna Steyr, the Advocates, and Public Citizen encouraged the adoption of a frontal offset test procedure to replace the full-frontal barrier test. Most emphasized that a large percentage of frontal offset crashes occurs in the real world, and that these crashes may be more frequent than full-frontal crashes. Some also provided recommendations regarding the overlap percentage, deformable barrier, and other test procedure specifics. Honda favored the addition of a frontal offset test, and suggested that a full-width deformable barrier (FDB) test to enhance vehicle crash compatibility be simultaneously introduced.

GM, Ford, and AIAM did not support the adoption of an offset test. GM pointed out that IIHS conducts 40 percent frontal offset crash tests and that if NHTSA adopted the same test, the additional test would be redundant. Ford stated concerns that a safety rating based on an offset test would cause a break in the safety ratings, such as a 3-star performer in the offset test receiving a 5-star rating in the full-frontal test, leading to consumer confusion. AIAM commented that an offset test would be premature without research of the benefits and disadvantages, particularly with regards to vehicle compatibility and aggressivity.

Changing the Rating System

Change Star Rating Limits

IIHS, GM, Ford, DaimlerChrysler, and Honda were opposed to changing the star rating limits. IIHS and GM questioned the real world benefits of changing the star rating bands. Ford, DaimlerChrysler, and Honda cautioned against the undesired consequences of changing the star bands, particularly in changing the five-star criteria. Daimler Chrysler expressed that in order to differentiate current vehicles, they would support half-star ratings. Daimler Chrysler said that “creating a 5-star rating based on a 5 percent risk of serious injury would likely lead to more aggressive vehicle and restraint counter measures with possible adverse real-world occupant safety and crash compatibility consequences.” Honda, on the other hand, said that a tougher five-star rating with the current head and chest injury curves could make vehicles and/or restraints softer, which could provide disbenefits for higher speed crashes and compromise protection for larger occupants.

AIAM also questioned the influence that new star bands would have on the repeatability (consistency from one test to the next) of star ratings. IIHS suggested that changing the star rating limits would only result in vehicle manufacturers making tweaks and small adjustments and would not have a meaningful impact on vehicle crashworthiness in the real world. The Advocates did not disagree with changing the star rating limits, but suggested that other proposed changes would yield much more meaningful results.

Public Citizen favored changing the star rating limits, suggesting that the new star ratings should increase stringency. Public Citizen recommended using 5 percent or less for head and chest injury to attain a five star rating. Nissan also considered this approach reasonable, provided that NHTSA could explain the relationship between the new and current calculation method, and that previously tested vehicles have their safety rating revised according to the new rating system.

Add New Injury Metrics to Star Rating

Most respondents either supported adding injury measures to the rating system or did not comment on the issue. The Advocates supported the addition of new injury metrics, but recommended separate ratings for the different injury criteria so that consumers can differentiate between life-threatening injuries and serious non-life-threatening injuries. Nissan did not object to additional injury metrics provided that the new inclusions would be supported by real world data, and that previously tested vehicles have their safety ratings revised.

Ford proposed that HIC calculated over a 15 millisecond duration (HIC 15) and chest deflection be used to replace the role of HIC36 and chest acceleration in the frontal NCAP tests. GM, Porsche, and DaimlerChrysler also recommended the use of chest deflection instead of chest acceleration, as it might be a better predictor of chest injury.

As neck load data is currently collected in NCAP tests, both Porsche and Subaru supported the use of Nij. DaimlerChrysler objected to the inclusion of Nij due to what they believe is inappropriate interaction between air bags and the neck of the Hybrid III 5th percentile dummy.

None of the responders objected to the inclusion of femur criteria into the rating, as most stated that femur criteria have already been established and are addressed in current vehicle designs. For lower leg (tibia) criteria, only Subaru and GM considered the use of the lower leg to be beneficial. GM stated this could reduce the number of debilitating injuries. However, Porsche and GM commented that lower leg injury mechanics are not simple and a better understanding of the relationship between full-frontal crashes and lower leg injuries is needed.

IV. Discussion and Agency Decision

In reviewing the comments to the 2004 Notice, it is apparent that there is no single prevailing opinion as to the future direction that should be pursued in revising the frontal NCAP. While Public Citizen and the Advocates favored an increase in the test speed, the auto companies and IIHS were all opposed. Incorporation of an offset frontal test was favored by a number of the commenters, including the IIHS, but several auto manufacturers raised various concerns. Likewise, most comments did not favor changing the star rating limits, although Public Citizen did recommend revisions to increase the stringency of the star ratings. There were also widely divergent views regarding incorporation of different dummies into the frontal NCAP test program. One area in which there seemed to be some agreement was in support of adding more injury measures to the rating system.

NHTSA has maintained several guiding principles when considering additions and/or revisions to NCAP. These include ensuring that NCAP complements FMVSS performance requirements and other agency programs in promoting automotive safety, providing meaningful information to the consumers, encouraging safety improvement through market forces, and assuring the integrity of the rating program for consumers. This requires that the NCAP information be provided in a timely manner that is readily understood by the consumers, that considers changing vehicle trends, and perhaps most importantly, is supported by sound data and research. Although the comments provided to the 2004 notice have been helpful in offering approaches that warrant consideration in revising the frontal NCAP, there was little substantive data or research provided that is necessary to establish a revised program with such far reaching public policy automotive safety implications.

The safety advances for frontal occupant protection envisioned a generation ago have now been incorporated into FMVSS No. 208. For emerging technologies, it is not apparent which will most effectively advance frontal occupant protection safety. NASS data (Appendix A) show that the current NCAP crash severity, with an impact velocity of 35 mph and delta-V of about 41-45 mph, represents all except about 0.2% of all frontal occupant injury crashes. As noted by Public Citizen, about 7% of the AIS 3+ injuries occur above this crash severity. However, the agency also notes that over 84% of the AIS 2+ and one-half of the AIS 3+ injuries occur at a delta-V of less than 25 mph. Included in these are many of the lower extremity injuries that are encompassed in the offset frontal efforts currently being considered and researched by NHTSA.⁵ Further, safety implications for the older population is also a consideration that needs to be assessed in determining effective ways to revise the frontal NCAP to be most meaningful for consumers and relevant to the real world crashes.

⁵ 70 FR 49248, Docket No. NHTSA-2005-21698, Occupant Crash Protection; Anthoropomorphic Test Devices; Instrumented Lower Legs for 50th Percentile Male and 5th Percentile Female Hybrid III Dummies.

Based on the foregoing and considering the comments received to the 2004 notice, we have decided that the most prudent approach for the frontal NCAP is to maintain the current test and rating procedures until we have established the sound science necessary to provide a basis for revising the program in a manner that it would be most meaningful for the consumers while ensuring that safety is advanced without unintended consequences. We have initiated a comprehensive review of our entire NCAP program to assure that it continues to most effectively complement FMVSS performance requirements and other agency programs in promoting automotive safety, particularly with the rapid emergence of new technologies. The review will include a further examination of the various options presented for upgrade to frontal NCAP, including rating vehicles for child occupant protection; the research, testing, and analysis needed; and the real world implications. We expect to have a course of action determined in 2006.

V. Conclusion

The agency believes that there is insufficient scientific basis to propose any revisions to the frontal NCAP at this time. We are therefore maintaining the full-frontal barrier test procedure, the test speed of 35 mph (56 km/h), the current test dummies, and the current rating system. We have come to this conclusion based on our evaluation of the comments received, real world data, available test data, and recent congressional mandates. We believe that further research and analysis is needed to establish a new frontal NCAP that complements existing FMVSS and drives the market towards improved safety for frontal occupant protection without unintended consequences. Accordingly, we will conduct the additional analyses necessary for the development of a new frontal rating program that will continue to provide meaningful information to the consumers and thereby encourage safety improvement through market forces.

Authority: 49 U.S.C. 32302, 30111, 30115, 30117, 30166, and 30168, and Pub.L. 106-414, 114 Stat. 1800; delegation of authority at 49 CFR 1.50.

Appendix A—NASS Analysis of Full-Frontal Crashes

The National Automotive Sampling System (NASS) Crashworthiness Data System (CDS) and the Fatality Analysis Reporting System (FARS) are two of the data systems that NHTSA uses to gain insight into real world crash data. Generally, the NASS provides detailed specifics on sampled towaway crashes while FARS provides a broad overview of the fatal crash data.

Table A1.—AIS 1+ Injured Occupants in Towed Light Vehicles (<=8,500 Pounds GVWR) 13 Years and Older in the Front-Outboard Seats, With Belts and Air Bags in Full-Frontal Crashes Without Missing Injury or Damage Data 1995-2003 Adjusted Annual Estimates
DV (mph) | Frequency | Percent | Cumulative frequency | Cumulative percent
00-05 | 1593.53 | 0.76 | 1593.53 | 0.76
06-10 | 67774.50 | 32.42 | 69368.03 | 33.18
11-15 | 78315.78 | 37.46 | 147683.80 | 70.64
16-20 | 39186.10 | 18.74 | 186869.90 | 89.39
21-25 | 13017.71 | 6.23 | 199887.60 | 95.62
26-30 | 5730.69 | 2.74 | 205618.30 | 98.36
31-35 | 1498.65 | 0.72 | 207117.00 | 99.07
36-40 | 1139.64 | 0.55 | 208256.60 | 99.62
41-45 | 355.58 | 0.17 | 208612.20 | 99.79
46-50 | 311.57 | 0.15 | 208923.80 | 99.94
51-55 | 84.16 | 0.04 | 209007.90 | 99.98
56-60 | 30.61 | 0.01 | 209038.50 | 99.99
61-65 | 12.67 | 0.01 | 209051.20 | 100.00

Table A2.—Moderately Injured (AIS 2+) Occupants in Towed Light Vehicles (<=8,500 Pounds GVWR) 13 Years and Older in the Front-Outboard Seats, With Belts and Air Bags in Full-Frontal Crashes Without Missing Injury or Damage Data 1995-2003 Adjusted Annual Estimates
DV (mph) | Frequency | Percent | Cumulative frequency | Cumulative percent
06-10 | 6152.10 | 20.42 | 6152.10 | 20.42
11-15 | 8308.73 | 27.58 | 14460.83 | 48.00
16-20 | 8306.68 | 27.57 | 22767.51 | 75.57
21-25 | 2831.48 | 9.40 | 25598.99 | 84.97
26-30 | 2057.39 | 6.83 | 27656.39 | 91.80
31-35 | 994.54 | 3.30 | 28650.93 | 95.10
36-40 | 775.82 | 2.58 | 29426.75 | 97.67
41-45 | 269.86 | 0.90 | 29696.60 | 98.57
46-50 | 303.22 | 1.01 | 29999.82 | 99.58
51-55 | 84.16 | 0.28 | 30083.99 | 99.86
56-60 | 30.61 | 0.10 | 30114.59 | 99.96
61-65 | 12.67 | 0.04 | 30127.26 | 100.00

Table A3.—Seriously Injured (AIS 3+) Occupants in Towed Light Vehicles (<=8,500 Pounds GVWR) 13 Years and Older in the Front-Outboard Seats, With Belts and Air Bags in Full-Frontal Crashes Without Missing Injury or Damage Data 1995-2003 Adjusted Annual Estimates
DV (mph) | Frequency | Percent | Cumulative frequency | Cumulative percent
06-10 | 355.40 | 6.71 | 355.40 | 6.71
11-15 | 380.33 | 7.18 | 735.73 | 13.90
16-20 | 1005.39 | 18.99 | 1741.12 | 32.89
21-25 | 1294.51 | 24.45 | 3035.63 | 57.35
26-30 | 741.61 | 14.01 | 3777.24 | 71.36
31-35 | 661.87 | 12.50 | 4439.11 | 83.86
36-40 | 276.35 | 5.22 | 4715.47 | 89.08
41-45 | 216.40 | 4.09 | 4931.86 | 93.17
46-50 | 234.22 | 4.42 | 5166.08 | 97.59
51-55 | 84.16 | 1.59 | 5250.24 | 99.18
56-60 | 30.61 | 0.58 | 5280.85 | 99.76
61-65 | 12.67 | 0.24 | 5293.52 | 100.00

Issued on: December 15, 2005.
Stephen R. Kratzke,
Associate Administrator for Rulemaking.

[FR Doc. 05-24268 Filed 12-15-05; 2:57 pm]

BILLING CODE 4910-59-P